SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections and extensions (no change) of existing OMB-approved information collections.

SSA is soliciting comments on the accuracy of the Agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, e-mail address: OIRA_Submission@omb.eop.gov;

(SSA), Social Security Administration, DCBFM, Attn: Reports Clearance Officer, 1333 Annex Building, 6401 Security Blvd., Baltimore, MD 21235, Fax: 410-965-6400, e-mail address: OPLM.RCO@ssa.gov.

I. The information collections listed below are pending at SSA. SSA will submit them to OMB within 60 days from the date of this notice. Therefore, your comments would be most helpful if you submit them to SSA within 60 days from the date of this publication. You can obtain copies of the collection instruments by calling the SSA Reports Clearance Officer at 410-965-0454 or by writing to the address listed above.

1. Disability Update Report—20 CFR 404.1589-.1595, 416.988-.996—0960-0511. SSA periodically reviews current disability benefits recipients' cases to determine if these beneficiaries should continue to receive disability payments. In cases where these reviews indicate beneficiaries might have experienced a medical improvement, SSA must investigate further. The Agency uses form SSA-455/SSA-455-OCR-SM, the Disability Update Report, for this purpose. Specifically, SSA uses the information it gathers on this form to determine if (1) There is enough evidence to warrant referring the beneficiary for a full medical Continuing Disability Review (CDR); (2) the beneficiary's impairment has not changed enough to warrant a CDR; or (3) there are unresolved work-related issues for the beneficiary. The respondents are Title II and Title XVI disability payment recipients.

Type of Request: Extension of an OMB-approved information collection.

Number of Respondents: 880,000.

Frequency of Response: 1.

Average Burden per Response: 15 minutes.

Estimated Annual Burden: 220,000 hours.

2. Help America Vote Act (HAVA)—0960-0706. H.R. 3295, the Help America Vote Act (HAVA) of 2002, mandates that States verify the identities of newly registered voters. When newly registered voters do not have drivers' licenses or State-issued ID cards, they must supply the last four digits of their Social Security Numbers (SSNs) to their local State election agencies for verification. The election agencies forward this information to their State Motor Vehicle Administration (MVA) that inputs the data into the American Association of Motor Vehicle Administrations, a central consolidation system that routes the voter data to SSA's Help America Vote Verification system. Once SSA's HAVV system has confirmed the identity of the voter, the information will be returned along the same route (in reverse) until it reaches the State election agency. The official respondents for this collection are the State MVAs.

Type of Request: Extension of an OMB-approved information collection.

Number of Respondents: 2,352,204.

Frequency of Response: 1.

Average Burden per Response: 2 minutes.

Estimated Annual Burden: 78,407 hours.

3. National Direct Deposit Initiative—31 CFR 210—0960-0711. Many SSA benefits recipients choose to receive their payments via the Direct Deposit Program, in which SSA transfers funds directly to recipients' accounts at a financial institution (FI). However, many Title II payment recipients still receive their payments through traditional paper checks. In an effort to encourage these beneficiaries to change from paper checks to the Direct Deposit Program, SSA is collaborating with the Department of the Treasury and several FIs to implement the National Direct Deposit Initiative. In this program, SSA will work with FIs to determine which of the target Title II beneficiaries have accounts at the participating banks. The banks will then send forms to these beneficiaries encouraging them to enroll in the Direct Deposit Program. The respondents are the participating FIs and Title II beneficiaries currently receiving their payments via check.

Type of Request: Extension of an OMB-approved information collection.

Type of respondent | Information collection requirement | Number of respondents | Frequency of response | Average burden response (minutes) | Estimated annual burden (hours) | Cost requirement | Estimated cost burden per respondent | Total annual cost burden
Title II Payment Recipients | Direct Deposit Enrollment Form | 100,000 | 1 | 2 | 3,333 | N/A | N/A | N/A
Financial Institutions (banks) | Data screening/matching activities; SSA's data management requirements | 10 | 1 | 240 | 40 | Printing/ mailing of 100,000 enrollment forms | $1,039 | $10,390
Totals |  | 110,000 |  |  | 3,373 |  |  | 10,390

Total Estimated Annual Burden (hours): 3,373 hours.

Total Estimated Annual Cost Burden ($): $10,390.

4. Authorization to Disclose Information to Social Security Administration—20 CFR 404.1512 & 20 CFR 416.912—0960-0623. SSA must obtain sufficient medical evidence to make eligibility determinations for Social Security disability benefits and SSI payments. For SSA to obtain medical evidence, an applicant must authorize his or her medical source(s) to release the information to SSA. The applicant may use form SSA-827 to provide consent for the release of information. Generally, the State DDS completes the form(s) based on information provided by the applicant, and sends the form(s) to the designated medical source(s). The respondents are applicants for Title II benefits and Title XVI payments.

Type of Request: Revision of an OMB-approved information collection.

Total respondents | Number of reports by each respondent | Total annual responses | Estimated number of minutes per response | Total burden hours
Reading, Signing, and Dating the 1st SSA-827 (10 minutes)
3,853,928 | 1 | 3,853,928 | 10 | 642,321
Signing and Dating Three Additional SSA-827s
3,853,928 | 3 | 11,561,784 | 1 | 192,696
Reading the Explanation of the SSA-827 on the Internet
586,232 | 1 | 586,232 | 3 | 29,312

Collectively:

Number of Respondents: 3,853,928.

Frequency of Response (Average per case): 4.

Average Burden per Response: 13 minutes to complete all 4 forms.

Average Burden to Read Internet Instructions: 3 minutes.

Estimated Annual Burden for Reading Internet Explanation: 29,312.

Estimated Annual Burden to read instructions and complete the form: 864,329 hours.

5. Review of the Disability Hearing Officer's Reconsidered Determinations Before It Is Issued—20 CFR 404.913-404.918, 404.1512-404.1515, 404.1589, 416.912-416.915, 416.989, 416.1413-416.1418, 404.918(d) and 416.1418(d)—0960-0709. When SSA approves a claimant for Social Security Disability Benefits, it periodically conducts a Continuing Disability Review (CDR), during which the Agency reviews the claimant's status to see if his/her condition has improved to the point where the claimant is capable of working. If SSA notifies a claimant that the Agency will cease paying his/her benefits, he/she may appeal that determination. The first appeal gives the claimant the opportunity for a full evidentiary hearing before a Disability Hearing Officer (DHO). A federal component reviews a small sample of the DHOs' determinations. It is rare for the reviewing component to reverse a DHO determination favorable to the claimant. Before SSA can effect the unfavorable determination, the claimant has 10 days to provide a written statement explaining why SSA should not stop his/her payments. That written statement is the information collected in this process. In the last three years, we experienced an average of eight instances where the reviewing unit reversed the DHO determination. Respondents are CDR claimants whose benefits are going to cease.

Type of Request: Extension of an OMB-approved information collection.

Number of Respondents: 8.

Frequency of Response: 1.

Average Burden per Response: 60 minutes.

Estimated Annual Burden: 8 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Youth Transition Process Demonstration Evaluation Data Collection—0960-0687

Background

The purpose of the Youth Transition Demonstration (YTD) project is to help young people with disabilities make the transition from school to work. While participating in the project, youth can continue to work and/or continue their education because SSA waives certain disability program rules and offers services to youth who are receiving disability benefits or have a high probability of receiving them. SSA will fully implement YTD projects in 10 sites across the country. The evaluation will produce empirical evidence on the effects of the waivers and project services including educational attainment, employment, earnings, and receipt of benefits by youth with disabilities but also on the Social Security Trust Fund and federal income tax revenues. This type of project is authorized by Sections 1110 and 234 of the Social Security Act.

Project Description

Given the importance of estimating YTD effects as accurately as possible, we will evaluate the project using rigorous analytic methods based on randomly assigning youth to a treatment or control group. We will conduct several data collections. These include (1) Baseline interviews with youth and their parents or guardians prior to random assignment; (2) follow-up interviews at 12 and 36 months after random assignment; (3) interviews and/or roundtable discussions with local program administrators, program supervisors, and service delivery staff; and (4) focus groups of youths, their parents, and service providers. The respondents are youths with disabilities enrolled in the project; their parents or guardians; program staff; and service providers.

Type of Request: Revision of an existing OMB clearance.

Data collection year | Collection | Number of respondents | Responses per respondent | Average burden per response (hours) | Total response burden (hours)
2008 | Baseline | 2,531 | 1 | 0.55 | 1,392
| Informed consent | 2,531 | 1 | 0.083 | 210
| 12 month follow-up | 1,502 | 1 | 0.83 | 1,247
| In-depth interviews | 120 | 1 | 0.42 | 50
| Focus group | 60 | 1 | 1.5 | 90
| Program staff/service provider | 32 | 1 | 1 | 32
Total 2008 |  |  |  |  | 3,021

Dated: July 7, 2008.
Elizabeth A. Davidson,
Reports Clearance Officer, Social Security Administration.

[FR Doc. E8-15752 Filed 7-10-08; 8:45 am]

BILLING CODE 4191-02-P